DEPARTMENT OF ENERGY

Federal Energy Regulatory Commission

[Docket No. IC09-912-001]

Commission Information Collection Activities (FERC-912 ¹), Supplemental Notice

February 3, 2010.

AGENCY: Federal Energy Regulatory Commission.

¹ FERC-912 (“Cogeneration and Small Power Production, PURPA Section 210(m) Regulations for Termination or Reinstatement of Obligation to Purchase or Sell;” OMB Control No. 1902-0237) covers the reporting requirements in 18 CFR Part 292.

ACTION: Supplemental notice.

SUMMARY: In compliance with the requirements of section 3507 of the Paperwork Reduction Act of 1995, 44 U.S.C. 3507, the Federal Energy Regulatory Commission (Commission or FERC) has submitted the FERC-912 ¹ to the Office of Management and Budget (OMB) for review of the information collection requirements.

SUPPLEMENTARY INFORMATION: In response to the Commission's Notice in Docket No. IC09-912-001 requesting public comment (74 FR 63743, 12/4/2009), FERC and OMB received one comment. The comment addresses the FERC-912 and relates to a pending rulemaking in Docket No. RM09-23 (“Revisions to Form, Procedures, and Criteria for Certification of Qualifying Facility Status for a Small Power Production or Cogeneration Facility”). The comment was also submitted in Docket No. RM09-23 and will be addressed in Docket No. RM09-23.

FOR FURTHER INFORMATION: Ellen Brown may be reached by telephone at (202) 502-8663, by fax at (202) 273-0873, and by e-mail at ellen.brown@ferc.gov.

Kimberly D. Bose,
Secretary.

[FR Doc. 2010-3099 Filed 2-18-10; 8:45 am]

BILLING CODE 6717-01-P